DEPARTMENT OF EDUCATION

34 CFR Chapter III

[Docket ID ED-2014-OSERS-0028]

Final Priority; National Institute on Disability and Rehabilitation Research—Rehabilitation Research and Training Centers

[CFDA Number: 84.133B-1.]

AGENCY: Office of Special Education and Rehabilitative Services, Department of Education.

ACTION: Final priority.

SUMMARY: The Assistant Secretary for Special Education and Rehabilitative Services announces a priority for the Rehabilitation Research and Training Center (RRTC) Program administered by the National Institute on Disability and Rehabilitation Research (NIDRR). Specifically, we announce a priority for an RRTC on Vocational Rehabilitation Practices for Youth and Young Adults. The Assistant Secretary may use this priority for competitions in fiscal year (FY) 2014 and later years. We take this action to focus research attention on an area of national need. We intend for this priority to contribute to improved outcomes for youth and young adults with disabilities in the State Vocational Rehabilitation Services program.

DATES: Effective Date: This priority is effective August 27, 2014.

FOR FURTHER INFORMATION CONTACT: Patricia Barrett, U.S. Department of Education, 400 Maryland Avenue SW., room 5142, Potomac Center Plaza (PCP), Washington, DC 20202-2700. Telephone: (202) 245-6211 or by email: patricia.barrett@ed.gov.

If you use a telecommunications device for the deaf (TDD) or a text telephone (TTY), call the Federal Relay Service (FRS), toll free, at 1-800-877-8339.

SUPPLEMENTARY INFORMATION: Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas. These activities are designed to benefit rehabilitation service providers, individuals with disabilities, family members, policymakers, and other research stakeholders. Additional information on the RRTC program can be found at: http://www2.ed.gov/programs/rrtc/index.html.

Program Authority: 29 U.S.C. 762(g) and 764(b)(2)(A).

Applicable Program Regulations: 34 CFR part 350.

We published a notice of proposed priority (NPP) for this program in the Federal Register on May 27, 2014 (79 FR 30056). That notice contained background information and our reasons for proposing the particular priority.

There are no differences between the proposed priority and this final priority.

Public Comment: In response to our invitation in the notice of proposed priority, three parties submitted comments on the proposed priority.

Generally, we do not address technical and other minor changes. In addition, we do not address general comments that raised concerns not directly related to the proposed priority.

Analysis of the Comments and Changes: An analysis of the comments and of any changes in the priority since publication of the NPP follows.

Comment: One commenter suggested that NIDRR modify the priority to require transition-related research on best practices in the following areas: Engaging youth consumers in the VR process, engaging parents/families in the VR process, how motivational interviewing works best with youth consumers, and partnering with school staff in the career development of youth with disabilities.

Discussion: As written, the priority specifies that the RRTC must conduct research on engaging youth consumers in the VR program. Paragraph (a) requires applicants to investigate factors that affect the likelihood that youth and young adults are fully engaged in the VR program. Paragraph (a)(1)(i) requires applicants to identify individual- and system-level factors (including practices of State VR agencies) that affect youth engagement in the VR program. We believe that, consistent with the proposed priority, the priority contains the transition-related research the commenter supports.

Changes: None.

Final Priority:

The Assistant Secretary for Special Education and Rehabilitative Services establishes a priority for an RRTC to conduct research on Vocational Rehabilitation (VR) Practices for Youth and Young Adults. The RRTC must contribute to increased knowledge about effective VR practices that can improve employment outcomes of youth and young adults with disabilities by:

(a) Generating new knowledge that builds the evidence base of VR practices, services, or models that improve the employment outcomes for youth and young adults. The center will conduct research to better understand the factors that affect the likelihood that youth and young adults are fully engaged in the VR program and achieve their vocational goals; i.e., completion of postsecondary education and training programs, and attainment of competitive employment, including research that—

(i) Identifies individual- and system-level factors that affect engagement and attainment of an employment outcome. Individual-level factors include, but are not limited to, demographic characteristics and impairment types and severity. System-level factors include, but are not limited to, financial disincentives to obtaining employment associated with other public programs and systems, characteristics and practices of VR State agencies, employer practices and perceptions, and macroeconomic conditions; and

(ii) Identifies the reasons for which youth and young adults with disabilities discontinue their participation in the VR program before achieving successful postsecondary goals (e.g., postsecondary education or training) or employment outcomes.

(b) Conducting research to identify VR services and transition practices that increase the likelihood of youth and young adults with disabilities achieving successful employment outcomes. The research must also identify practices relevant to improving the outcomes of youth and young adults who are at particular risk for poor employment outcomes. Applicants must identify the specific at-risk group or groups of youth and young adults with disabilities they propose to include; provide evidence that the selected population or populations are, in fact, at risk for poor employment outcomes; and explain how the practices are expected to address the needs of the population or populations.

(c) Focusing its research on one or more specific stages of research. If the RRTC is to conduct research that can be categorized under more than one of the research stages, or research that progresses from one stage to another, those research stages must be clearly specified. (These stages and their definitions are provided at the end of the background statement section of the notice of proposed priority published in the Federal Register on May 27, 2014 (79 FR 30056).)

(d) Serving as a national resource center for youth and young adults with disabilities, their families, and other stakeholders, including other relevant grantees funded by the Office of Special Education and Rehabilitative Services. Specifically, this center must coordinate, as appropriate, with the Office of Special Education Programs (OSEP)-funded Parent Training and Information Centers, the OSEP-funded National Technical Assistance Center on Improving Transition, and the Rehabilitation Services Administration (RSA)-funded Parent Information and Training Projects, and other relevant entities by conducting knowledge translation activities related to improving employment outcomes of youth and young adults that must include, but are not limited to:

(i) Providing information and technical assistance to VR State agencies and related service providers, educators, employers, youth and young adults with disabilities and their representatives, families, and other key stakeholders.

(ii) Providing training, including graduate, pre-service, and in-service training, to educators, VR professionals, direct service professionals, and related service providers, to facilitate a seamless and effective transition service delivery system. Training may be offered through conferences, workshops, public education programs, in-service training programs, and similar activities.

(iii) Disseminating research-based information and materials related to VR practices and services that increase employment for youth and young adults with disabilities.

(iv) Involving key stakeholder groups in the activities conducted under paragraphs (a) through (d) of this priority in order to maximize the relevance and usability of the new knowledge generated by the RRTC.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years, as projects similar to the one envisioned by the final priority have been completed successfully, and the proposed priority will generate new knowledge through research. The new RRTCs will generate, disseminate, and promote the use of new information that would improve outcomes for individuals with disabilities in the areas of community living and participation, employment, and health and function.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 23, 2014.
Melody Musgrove,
Director, Office of Special Education Programs.

[FR Doc. 2014-17718 Filed 7-25-14; 8:45 am]

BILLING CODE 4000-01-P